DEPARTMENT OF TRANSPORTATION

Federal Aviation Administration

14 CFR Part 139

Draft Parachute Landing Area Standards

AGENCY: Federal Aviation Administration (FAA), DOT.

ACTION: Request for comment.

SUMMARY: The Federal Aviation Administration (FAA), U.S. Department of Transportation (DOT), invites the United States Parachute Association, skydiving businesses, airport operators, airport consultants, industry representatives and all other interested parties to review and comment on the draft “Parachute Landing Area Standards” contained in Change 19 to the Airport Design Advisory Circular (“AC”), AC 150/5300-13. This change establishes new standards and recommendations for parachute landing areas on airports. This action proposes to clarify the FAA policies and standards concerning access to federally obligated airports for parachute landing activities. It also proposes to clarify Grant Assurance No. 22, “Economic Nondiscrimination,” which is required of a sponsor as a condition of receiving a grant under the Airport Improvement Program (AIP), to incorporate these standards.

DATES: Comments must be received on or before August 17, 2012.

ADDRESSES: Comments must be submitted by:

• Hand Delivery/Courier: Federal Aviation Administration, 800 Independence Avenue SW., AAS-100, Room 621, Washington, DC 20590.

• Fax: (202) 267-3688.

FOR FURTHER INFORMATION CONTACT: Khalil Elias Kodsi, P.E. PMP, Airport Engineering Division, (AAS-100), Federal Aviation Administration, 800 Independence Ave. SW., Washington, DC 20591; telephone (202) 267-7553.

SUPPLEMENTARY INFORMATION: The FAA has posted Change 19 for the Advisory Circular on the Internet at: http://www.faa.gov/airports/resources/advisory_circulars/

Pursuant to 49 U.S.C. 47107(h), the Secretary of Transportation is required to provide notice and comment in the Federal Register and an opportunity for the public to comment upon proposals to modify the assurances or add new assurances.

The purpose of this document is twofold: (1) To provide notice of the proposed modification of Grant Assurance No. 22 and to provide an opportunity to comment consistent with 49 U.S.C. 47107(h), and (2) to invite interested parties to review and comment on the draft “Parachute Landing Area Standards” contained in Change 19 to the Airport Design Advisory Circular, AC 150/5300-13. The FAA interprets 49 U.S.C. 47107(a)(1), and the corollary grant assurance No. 22, “Economic Nondiscrimination,” to require airports obligated under AIP grants (which includes sponsors that are holders of Airport Operating Certificates issued under 14 CFR part 139) to comply with new PLA Standards set forth in Change 19 to AC 150/5300-13, “Airport Design,” which address hazards, PLA size and location, and recommended markings. The FAA proposes to use these standards; along with changes in its safety assessment review process, to provide a more consistent and objective examination of requests for parachute landing areas on federally obligated airports. The new standards and the updated review process will ensure that airport sponsors are able to implement new PLAs safely and efficiently. The PLA Standards will apply at the time airports enter into new grant agreements with the FAA subsequent to the effective date of Change 19 to AC No. 150/5300-13, “Airport Design.”

The FAA proposes to modify AIP Grant Assurance No. 22, “Economic Nondiscrimination,” to clarify that sponsor must comply with Parachute Landing Area (PLA) Standards set forth in Change 19 to AC 150/5300-13, “Airport Design,” which address hazards, PLA size and location, and recommended markings. These standards are designed to provide a more consistent and objective examination of requests for parachute landing areas on federally obligated airports. The standards will ensure that sponsors are able to implement new PLAs safely and efficiently.

Title 49 of the United States Code, section 47108(a), provides that the Secretary may impose terms on the offer of Federal funds for AIP funded airport development projects that the Secretary considers necessary. Uniform design standards for airports can be found in FAA advisory circulars and mandatory use is generally required on all AIP projects. In exchange for AIP grant funds, an airport sponsor is required by 49 U.S.C. 47107(a) to certify to the Secretary that it will comply with a number of Federal laws, policies, and grant assurances. Grant Assurance No. 22, “Economic Nondiscrimination,” requires an airport sponsor to “make the airport available as an airport for public use on reasonable terms and without unjust discrimination to all types, kinds and classes of aeronautical activities, including commercial aeronautical activities offering services to the public at the airport.”

Parachuting is an aeronautical activity. See AC-105.2D. For several years, airport sponsors, skydiving operators and airport users have expressed concerns to the FAA about the safety assessment process the FAA uses to evaluate parachute operations and the siting of Parachute Landing Areas on federally obligated airports. These concerns include the amount of time required from airport sponsors, skydiving operators, and the FAA to conduct safety assessments, and the resulting access delays that can occur for skydiving operators. The PLA standards and safety risk assessment procedures are an attempt to address these issues. With these standards, along with changes to the safety assessment review process, the FAA also seeks to gain greater national coordination and consistency in its safety assessments and to ensure that these standards are applied objectively and uniformly across the country. Some airport sponsors have cited reasons of safety and/or efficiency and have been generally reluctant to allow the establishment of on-airport parachute landing areas. Airport sponsors generally do not object to the takeoff and landing of aircraft that are used to transport skydivers, but argue that having the skydivers land on the airport property creates safety and/or efficiency concerns when combined with other aeronautical users.

Change 19 of AC 150/5300-13, “Airport Design,” establishes new standards for on-airport PLAs, including size, location and recommended markings. The FAA proposes to use these standards; along with changes in its safety assessment review process, to provide a more consistent and objective examination of requests for parachute landing areas on federally obligated airports. This new standard, combined with the new request review process, will ensure that airport sponsors are able to implement new PLAs safely and efficiently.

Reviewers will also have access, via the FAA listed web link above, to the FAA William J. Hughes Technical Center Report entitled, “Development of Criteria for Parachute Landing Areas on Airports,” as well as to a database report of accidents and incidents related to parachute operations from the Aviation System Information Analysis and Sharing (ASIAS) database.

As required under 49 U.S.C. 47107(h), the FAA is providing notice that it interprets 49 U.S.C. 47107(a) (1), and the corollary grant assurance No. 22, “Economic Nondiscrimination,” to require airports that accept new AIP grants (which would include sponsors that are holders of Airport Operating Certificates issued under 14 CFR part 139) to comply with new PLA Standards set forth in Change 19 to AC 150/5300-13, “Airport Design.” The new standards address hazards, PLA size and location, and recommended markings. In consideration of the above, the FAA proposes to modify the current version of Grant Assurance No.22, “Economic Nondiscrimination,” to add new paragraph (j) to read as follows:

C. Sponsor Certification. The sponsor hereby assures and certifies, with respect to this grant, that:

22. Economic Nondiscrimination

j. It will comply with Parachute Landing Area (PLA) Standards set forth to 150-5300 series AC “Airport Design,” which addresses hazards, PLA size and location, and recommended markings.

The PLA Standards will take effect at the time airports enter into new grant agreements with the FAA subsequent to the effective date of Change 19 to AC No. 150/5300-13, “Airport Design.” For an airport that has an existing parachute landing area, the airport will have 60 months from the date it enters into the grant agreement to come into compliance with the new PLA standards. If an airport is not able to modify its existing parachute landing area to comply within this timeframe, the airport must provide the FAA with a plan prior to the end of the 60 months. This plan must be submitted to the local FAA Airports District Office or Regional Airports Office (where applicable) for approval, and must include a timetable describing how the airport will meet the PLA Standards within a timeframe acceptable to the Administrator. For other airports, the Standards are recommended.

It should be noted that in Change 19, the FAA has modified paragraph 3, “Application,” to reflect that the standards in the Airport Design AC may be used by certificated airports as a means of satisfying specific requirements in subparts C and D of 14 CFR part 139. This text was inadvertently removed from the prior version of the Airport Design AC. The next text reads,

The standards and recommendations contained in this AC may be used by certificated airports to satisfy specific requirements of Federal Aviation Regulations (FAR) part 139, “Certification of Airports,” subparts C (Airport Certification Manual) and D (Operations).

Issued in Washington, DC, on June 22, 2012.
Michael J. O'Donnell,
Director, Office of Airport Safety and Standards.

[FR Doc. 2012-15912 Filed 6-29-12; 4:15 pm]

BILLING CODE 4910-13-P